DEPARTMENT OF THE INTERIOR

National Park Service

National Register of Historic Places; Notification of Pending Nominations and Related Actions

Nominations for the following properties being considered for listing or related actions in the National Register were received by the National Park Service before June 21, 2008. Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by July 23, 2008.

J. Paul Loether,
Chief, National Register of Historic Places/National, Historic Landmarks Program.

ARKANSAS

Arkansas County

Crocketts Bluff Hunting Lodge, End of dirt Rd. N. of pt. at which Hwy. 153 turns S., Crocketts Bluff, 08000723.

Miller County

Adams, Wallace, Service Station (Historic Buildings of Texarkana, Arkansas, MPS), 523 E. 23rd St., Texarkana, 08000726.

Cotton Belt Railroad Office Building, (Historic Buildings of Texarkana, Arkansas, MPS), 312 E. Broad St., Texarkana, 08000727.

East Broad Street Historic District (Historic Buildings of Texarkana, Arkansas, MPS), 100 block E. Broad St., Texarkana, 08000729.

Hopkins Feed and Seed Store (Historic Buildings of Texarkana, Arkansas, MPS), 301 E. 3rd St., Texarkana, 08000728.

Swift Building (Historic Buildings of Texarkana, Arkansas, MPS), 410 E. Broad St., Texarkana, 08000725.

Mississippi County

Hale Avenue Historic District Boundary Increase II (Osceola MRA), 100 and 200 blocks W. Hale Ave.; 100, 200 blocks E. Hale Ave.; 100 block N. Poplar, Osceola, 08000722.

Perry County

Wallace Bridge (Historic Bridges of Arkansas MPS), Perry Co. Rd. 18, Nimrod, 08000724.

COLORADO

Las Animas County

White School (Rural School Buildings in Colorado MPS), Jct. of Co. Rd. 191 and Co. Rd. 30, Kim, 08000740.

INDIANA

Benton County

Benton County Courthouse, 706 E. 5th St., Fowler, 08000741.

Newton County

Newton County Courthouse, One Courthouse Square, Kentland, 08000742.

KENTUCKY

Campbell County

Fort Thomas Commercial District, 1011-1123 Fort Thomas Ave., 9-11 River Rd., 12-28 Midway Ct., Ft. Thomas, 08000751.

LOUISIANA

Jackson Parish

Palace Theatre, 125 Jimmy Davis Blvd., Jonesboro, 08000731.

West Baton Rouge Parish

Antonia (Louisiana's French Creole Architecture MPS), 4626 S. River Rd., Port Allen, 08000743.

MISSOURI

Jackson County

Valentine on Broadway Hotel, 3724 Broadway Blvd., Kansas City, 08000745.

St. Louis Independent City

Oehler Brick Buildings, 3542-48 S. Broadway, St. Louis, 08000749.

Wetzell, Zebediah F. Mary H., House, 3741 Washington Ave., St. Louis, 08000739.

NEW MEXICO

Santa Fe County

El Zaguan, 545 Canyon Rd., Santa Fe, 08000732.

NORTH DAKOTA

Stark County

Dickinson (Carnegie Area) Public Library (Philanthropically Established Libraries in North Dakota MPS), 139 3rd St. W., Dickinson, 08000735.

SOUTH CAROLINA

Anderson County

North Anderson Historic District, E. and W. North Ave. between Boundary St. and Mauldin Dr., including parts of Edgewood Dr. Blair St., Central Ave., Anderson, 08000733.

Greenville County

Allen Temple A.M.E. Church, 109 Green Ave., at jct. with S. Markley St., Greenville, 08000748

Greenwood County

Tabernacle Cemetery, Tabernacle Cemetery Rd., just E. of SC Hwy. 254, Greenwood, 08000736.

Orangeburg County

Trinity Lutheran Church, 390 Hampton St., Elloree, 08000721.

Richland County

Good Samaritan—Waverly Hospital (Segregation in Columbia, South Carolina MPS), 2204 Hampton St., Columbia, 08000738.

SOUTH CAROLINA

York County

Laurelwood Cemetery (Rock Hill MPS), Bordered by Laurel, W. White, Stewart, and W. Main Sts., Rock Hill, 08000746.

TENNESSEE

Giles County

Noblit—Lytle, House, 1311 Sugar Creek Rd., Minor Hill, 08000734.

TEXAS

Lipscomb County

Lipscomb County Courthouse, Courthouse Square, Lipscomb, 08000730.

VERMONT

Lamoille County

Moscow Village Historic District, Moscow Rd., Shaw Hill Rd., Adams Mill Rd., River Rd., Stowe, 08000744.

WISCONSIN

Oneida County

Miller, Marshall D., Boathouse, 7304 Campground Rd., Three Lakes, 08000747.

Trunck, Joseph and Augusta, Boathouse, 1000 Leatzow Rd., Three Lakes, 08000750.

Request for removal has been made for the following resources:

ARIZONA

Maricopa County

Archeological Site AZ U: 10:60 (ASM) (Hohokam Land Use and Settlement along the Northern Queen Creek Delta MPS), Address Restricted, Mesa, 95000752.

[FR Doc. E8-15367 Filed 7-7-08; 8:45 am]

BILLING CODE 4310-70-P